ENVIRONMENTAL PROTECTION AGENCY

40 CFR Part 271

[FRL-7823-7]

Nebraska: Final Authorization of State Hazardous Waste Management Program Revision

AGENCY: Environmental Protection Agency (EPA).

ACTION: Proposed rule.

SUMMARY: Nebraska has applied to the EPA for final authorization of the changes to its hazardous waste program under the Resource Conservation and Recovery Act. The EPA proposes to grant final authorization to Nebraska. In the “Rules and Regulations” section of this Federal Register, the EPA is authorizing the changes by an immediate final rule. The EPA did not make a proposal prior to the immediate final rule because we believe this action is not controversial and do not expect comments that oppose it. We have explained the reasons for this authorization in the preamble to the immediate final rule. Unless we receive written comments which oppose this authorization during the comment period, the immediate final rule will become effective on the date it establishes, and we will not take further action on this proposal. If we receive comments that oppose this action, we will withdraw the immediate final rule and it will not take effect. We will then respond to public comments in a later final rule based on this proposal. You may not have another opportunity for comment. If you want to comment on this action, you must do so at this time.

DATES: Send your written comments by November 3, 2004.

ADDRESSES: Comments may be mailed to Lisa Haugen, Environmental Protection Agency, ARTD/RESP, 901 North 5th Street, Kansas City, Kansas 66101. Comments may also be submitted electronically or through hand delivery/courier; please follow the detailed instructions in the ADDRESSES section of the direct final rule which is located in the rules section of this Federal Register.

FOR FURTHER INFORMATION CONTACT: Lisa V. Haugen at the above address, by phone at (913) 551-7877, or by e-mail at haugen.lisa@epa.gov.

SUPPLEMENTARY INFORMATION: For additional information, please see the immediate final rule published in the “Rules and Regulations” section of this Federal Register.

Dated: September 2, 2004.
William Rice,
Acting Regional Administrator, Region 7.

[FR Doc. 04-22253 Filed 10-1-04; 8:45 am]

BILLING CODE 6560-50-P